COMMITTEE FOR PURCHASE FROM PEOPLE WHO ARE BLIND OR SEVERELY DISABLED

Procurement List; Additions and Deletions

AGENCY: Committee for Purchase From People Who Are Blind or Severely Disabled.

ACTION: Additions to and deletions from procurement list.

SUMMARY: This action adds to the procurement list products and services to be furnished by nonprofit agencies employing persons who are blind or have other severe disabilities, and deletes from the procurement list products previously furnished by such agencies.

EFFECTIVE DATE: February 9, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Additions

On August 30, October 4, November 1, and November 15, 2002, the Committee for Purchase From People Who Are Blind or Severely Disabled published notice (67 FR 55776, 62224, 66607, and 69186) of proposed additions to the procurement list.

The following comments pertain to highlighters, fluorescent and free-ink.

Comments were received from the current contractor in response to a request for sales data. While admitting that the items proposed for addition to the procurement list represent a very small part of the company's sales, the contractor noted that it had recently been affected by another addition to the procurement list, and that the company has been on a Federal supply schedule for these items for nearly 20 years. The contractor stated that it would be very difficult to recover from these impacts in the current business environment, with government purchasers bundling contracts and closing supply depots. The contractor also noted that stores operated on Federal installations by nonprofit agencies in the Committee's program compete with small companies like the contractor. The contractor did not provide data on the extent of sales lost to these stores.

The impact of the current and recent procurement list addition mentioned by the contractor together amount to only a very small percentage of the contractor's total sales. In addition, the contractor will retain its current Federal supply schedule contract until it expires in 2005. The schedule in question is a multiple award schedule, so the contractor is guaranteed only a minimum amount of sales and must compete for the rest with other schedule holders. Therefore, the contractor's longtime status as a schedule contractor and the sales it may have lost to the Federal installation stores do not add much weight to the impacts which the Committee has considered in deciding that this procurement list addition will not have a severe adverse impact on the contractor.

The following comments pertain to can, friction top and container, fuel sample.

Comments were received from the current contractor in response to a request for sales information. The commenter stated that the items proposed for addition to the procurement list represented a significant minority of the gross revenues the commenter is receiving on this specific contract. The commenter also stated that that individual packaging of the items is the most difficult and expensive part of the production process, and requested that it be allowed an opportunity to supply the unfinished items to the nonprofit agency designated by the Committee to provide them to the government.

The Committee looks to a company's total sales, not to revenues on a specific contract, when assessing the severity of the impact of a procurement list addition on a contractor. In this case, the contract value of the items being added to the procurement list represents a very small portion of the commenter's total sales. The designated nonprofit agency will be buying the unfinished items from the same source as the commenter did, so it would not be economically feasible to involve the commenter in the purchase, as the presence of the commenter in the chain of transactions would likely only increase the cost of the items.

The Following Material Pertains to All of the Items Being Added to the Procurement List

After consideration of the material presented to it concerning capability of qualified nonprofit agencies to provide the products and services and impact of the additions on the current or most recent contractors, the Committee has determined that the products and services listed below are suitable for procurement by the Federal government under 41 U.S.C. 46-48c and 41 CFR 51-2.4. I certify that the following action will not have a significant impact on a substantial number of small entities. The major factors considered for this certification were:

1. The action will not result in any additional reporting, recordkeeping or other compliance requirements for small entities other than the small organizations that will furnish the products and services to the government.

2. The action will result in authorizing small entities to furnish the products and services to the government.

3. There are no known regulatory alternatives which would accomplish the objectives of the Javits-Wagner-O'Day Act (41 U.S.C. 46-48c) in connection with the products and services proposed for addition to the procurement list.

Accordingly, the following products and services are added to the procurement list:

Products

Product/NSN: Bag, trash, cloth, 2090-01-478-3561.

NPA: West Texas Lighthouse for the Blind, San Angelo, Texas.

Contract Activity: Defense Supply Center Columbus, Columbus, Ohio.

Product/NSN: Binder, looseleaf, 7510-01-368-3486, 7510-01-412-6338.

NPA: South Texas Lighthouse for the Blind, Corpus Christi, Texas.

Contract Activity: Office Supplies & Paper Products Acquisition Center, New York, New York.

Product/NSN: Can, friction top, 8110-00-178-8291, 8110-00-178-8292.

NPA: East Texas Lighthouse for the Blind, Tyler, Texas.

Contract Activity: Defense Supply Center Philadelphia, Philadelphia, Pennsylvania.

Product/NSN: Container fuel sample, 8110-01-371-8315.

NPA: East Texas Lighthouse for the Blind, Tyler, Texas.

Contract Activity: Defense Supply Center Philadelphia, Philadelphia, Pennsylvania.

Product/NSN: Highlighter, fluorescent, flat, 7520-00-NIB-1620, 7520-01-238-1728.

NPA: Winston-Salem Industries for the Blind, Winston-Salem, North Carolina.

Contract Activity: Office Supplies & Paper Products Acquisition Center, New York, New York.

Product/NSN: Highlighters, free-ink, flat, 7520-00-NIB-1625, 7520-00-NIB-1630, 7520-00-NIB-1631.

NPA: Winston-Salem Industries for the Blind, Winston-Salem, North Carolina.

Contract Activity: Office Supplies & Paper Products Acquisition Center, New York, New York.

Product/NSN: U.S. Geological Survey visual identity clothing, Baseball cap, delta dark green w/USGS identifier/8405-00-NIB-0182, Baseball cap, navy w/USGS identifier/8405-00-NIB-0183, T-shirt, ash w/USGS identifier/8415-00-NIB-0229, T-shirt, orange w/USGS identifier/8415-00-NIB-0230, T-shirt, navy blue w/USGS identifier/8415-00-NIB-0231, Polo shirt, dark green w/USGS identifier/8415-00-NIB-0232, Sweatshirt, dark green w/USGS identifier/8415-00-NIB-0233, Cruiser vest, orange w/USGS identifier/8465-00-NIB-0098, Cruiser vest, khaki w/USGS identifier/8465-00-NIB-0099.

NPA: Delaware Division for the Visually Impaired, New Castle, Delaware.

Contract Activity: U.S. Geological Survey, Reston, Virginia.

Services

Service Type/Location: Janitorial and mailroom operations, Environmental Protection Agency, Environmental Science Center, Fort Meade, Maryland.

NPA: Goodwill Industries of the Chesapeake, Inc., Baltimore, Maryland.

Contract Activity: Environmental Protection Agency, Philadelphia, Pennsylvania.

Service Type/Location: Janitorial/custodial, U.S. Army Reserve Center, Pewaukee, Wisconsin.

NPA: Milwaukee Center for Independence, Inc., Milwaukee, Wisconsin.

Contract Activity: HQ, 88th Regional Support Command, Fort Snelling, Minnesota.

Service Type/Location: Office Supply Center, Richard Bolling Federal Building, Kansas City, Missouri.

NPA: Alphapointe Association for the Blind, Kansas City, Missouri.

Contract Activity: U.S. Army Corps of Engineers, Kansas City, Missouri.

Deletions

I certify that the following action will not have a significant impact on a substantial number of small entities. The major factors considered for this certification were:

1. The action will not result in any additional reporting, recordkeeping or other compliance requirements for small entities.

2. The action will result in authorizing small entities to furnish the products to the government.

3. There are no known regulatory alternatives which would accomplish the objectives of the Javits-Wagner-O'Day Act (41 U.S.C. 46-48c) in connection with the products proposed for deletion from the procurement list.

After consideration of the relevant matter presented, the committee has determined that the products listed below are no longer suitable for procurement by the Federal government under 41 U.S.C. 46-48c and 41 CFR 51-2.4.

Accordingly, the following products are deleted from the procurement list:

Products

Product/NSN: Card set, guide, file, 7530-00-861-1263, 7530-00-861-1272.

NPA: Georgia Industries for the Blind, Bainbridge, Georgia.

Contract Activity: Office Supplies & Paper Products Acquisition Center, New York, New York.

Product/NSN: Disk, flexible, 7045-01-251-7527, 7045-01-365-2070, 7045-01-365-2071, 7045-01-209-2193.

NPA: North Central Sight Services, Inc., Williamsport, Pennsylvania.

Contract Activity: Defense Supply Center Philadelphia, Philadelphia, Pennsylvania.

Product/NSN: Strap assembly, litter, 1680-00-878-6964.

NPA: Huntsville Rehabilitation Foundation, Huntsville, Alabama.

Contract Activity: Defense Supply Center Richmond, Richmond, Virginia.

Product/NSN: Tape, computer, 7045-01-119-6357.

NPA: North Central Sight Services, Inc., Williamsport, Pennsylvania.

Contract Activity: Defense Supply Center Columbus, Columbus, Ohio.

Product/NSN: Tape, electronic data processing, 7045-01-338-6542.

NPA: North Central Sight Services, Inc., Williamsport, Pennsylvania.

Contract Activity: Defense Supply Center Columbus, Columbus, Ohio.

Sheryl D. Kennerly,
Director, Information Management.

[FR Doc. 03-505 Filed 1-9-03; 8:45 am]

BILLING CODE 6353-01-P